DEPARTMENT OF ENERGY

[EERE-2019-BT-PET-0019-0008]

Energy Efficiency Program for Industrial Equipment: Final Determination Classifying North Carolina Advanced Energy Corporation as a Nationally Recognized Certification Program for Electric Motors and Small Electric Motors

AGENCY: Office of Energy Efficiency and Renewable Energy, Department of Energy.

ACTION: Notice of final determination.

SUMMARY: This notice announces a final determination classifying North Carolina Advanced Energy Corporation as a nationally recognized certification program under United States Department of Energy (“DOE”) regulations regarding federal recognition of certification programs for electric motors and small electric motors.

DATES: This final determination is effective July 6, 2020.

ADDRESSES: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2019-BT-PET-0019. The docket web page contains instructions on how to access all documents, including public comments, in the docket.

FOR FURTHER INFORMATION CONTACT:

Mr. Jeremy Dommu, U.S. Department of Energy, Building Technologies Program, EE-5B, 1000 Independence Avenue SW, Washington, DC 20585-0121. Telephone: (202) 586-9870. Email: Jeremy.Dommu@ee.doe.gov.

Mr. Michael Kido, U.S. Department of Energy, Office of the General Counsel, GC-33, 1000 Independence Avenue SW, Washington, DC 20585-0103. Telephone: (202) 586-8145. Email: Michael.Kido@hq.doe.gov.

For further information on how to submit a comment, review other public comments and the docket, or to request a public meeting, contact the Appliance and Equipment Standards Program staff at (202) 287-1445 or by email: ApplianceStandardsQuestions@ee.doe.gov.

SUPPLEMENTARY INFORMATION:

I. Background and Authority

Part C of Title III of the Energy Policy and Conservation Act, as amended (“EPCA”) contains energy conservation requirements for, among other things, electric motors and small electric motors, including test procedures, energy efficiency standards, and compliance certification requirements. 42 U.S.C. 6311-6316.¹ Section 345(c) of EPCA directs the Secretary of Energy to require manufacturers of electric motors “to certify through an independent testing or certification program nationally recognized in the United States, that [each electric motor subject to EPCA efficiency standards] meets the applicable standard.” 42 U.S.C. 6316(c). DOE codified this requirement at 10 CFR 431.17(a)(5). DOE also established certain compliance testing requirements for manufacturers of small electric motors. 77 FR 26608 (May 4, 2012) Manufacturers of small electric motors have the option of either self-certifying the efficiency of their small electric motors or they can use a certification program nationally recognized in the U.S to certify them. (10 CFR 431.445) DOE developed a regulatory process for the recognition, and withdrawal of recognition, for certification programs nationally recognized in the U.S. The criteria and procedures for national recognition of an energy efficiency certification program for electric motors are codified at 10 CFR 431.20 and 10 CFR 431.21 for electric motors and at 10 CFR 431.447 and 10 CFR 431.448 for small electric motors. Each step of the process and evaluation criteria are discussed below.

¹ For editorial reasons, upon codification in the U.S. Code, Part C was re-designated Part A-1.

For a certification program to be classified by DOE as being nationally recognized in the United States for the testing and certification of electric motors and small electric motors, the organization operating the program must submit a petition to the Department requesting such classification, in accordance with the aforementioned sections.

For the Department to grant such a petition, the petitioner's certification program must:

(1) Have satisfactory standards and procedures for conducting and administering a certification system, and for granting a certificate of conformity;

(2) Be independent of electric motor and small electric motor manufacturers (as applicable), importers, distributors, private labelers or vendors;

(3) Be qualified to operate a certification system in a highly competent manner; and

(4) Be expert in the following test procedures and methodologies:

(a) For electric motors, it must be expert in the content and application of the test procedures and methodologies in IEEE Std 112-2004 Test Method B or CSA C390-10. It must have satisfactory criteria and procedures for the selection and sampling of electric motors tested for energy efficiency. (10 CFR 431.20(b)); and

(b) For small electric motors, it must be expert in the content and application of the test procedures and methodologies in IEEE Std 112-2004 Test Methods A and B, IEEE Std 114-2010, CSA C390-10, and CSA C747, or similar procedures and methodologies for determining the energy efficiency of small electric motors. It must have satisfactory criteria and procedures for the selection and sampling of electric motors tested for energy efficiency. (10 CFR 431.447(b))

The petition requesting classification as a nationally recognized certification program must contain a narrative statement explaining why the organization meets the above criteria, be accompanied by documentation that supports the narrative statement, and be signed by an authorized representative. (10 CFR 431.20(c), and 10 CFR 431.447(c)).

II. Discussion

Pursuant to 10 CFR 431.20—10 CFR 431.21 and 10 CFR 431.447—10 CFR 431.448, on February 11, 2019, North Carolina Advanced Energy Corporation Efficiency Verification Services (“Advanced Energy”) submitted to DOE a Petition for Recognition related to the group's motor efficiency verification services. That petition, titled, “Energy Efficiency Evaluation of Electric Motors and Small Electric Motors to US Department of Energy Regulations as stipulated in 10 CFR part 431, subpart B and Subpart X” (“Petition” or “Advanced Energy Petition”), was accompanied by a cover letter from Advanced Energy to the Department containing four separate sections, including individual narrative statements: (1) Standards and Procedures; (2) Independent Status; (3) Qualification of Advanced Energy to Operate a Certification System; and (4) Expertise in Electric Motor Test Procedures. The petition included supporting documentation on these subjects. The Department is required to publish in the Federal Register such petitions for public notice and solicitation of comments, data and information as to whether the Petition should be granted. 10 CFR 431.21(b) and 10 CFR 431.448(b). In accordance with requirements in 10 CFR 431.21(b) and 10 CFR 431.448(b), DOE published Advanced Energy's petition in the Federal Register on July 8, 2019, and requested public comments. 84 FR 32437. DOE did not receive any comments responding to the petition.

As required by 10 CFR 431.21(d) and 10 CFR 431.448(d), DOE subsequently published a notification of interim determination regarding Advanced Energy's petition and solicited comments. 85 FR 70520 (December 23, 2019). In the notification of interim determination, DOE noted that, after reviewing submitted materials and having received no comments, that it found no specific cause to reject the petition. It tentatively determined that Advanced Energy meets the requirements at 10 CFR 431.20 and 10 CFR 431.21 for electric motors and at 10 CFR 431.447 and 10 CFR 431.448 for small electric motors because they (1) have satisfactory standards and procedures for conducting and administering a certification system, (2) are independent of electric motor and small electric motor manufacturers, and (3) have expertise with both the electric motors and small electric motors test procedures.

In response to the notice of interim determination, GE Industrial Motors, a manufacturer, submitted a comment to DOE on January 22, 2020. GE Industrial Motors (“GE”) expressed concerns regarding Advanced Energy's procedures to ensure (1) no other manufacturers would be present during testing of a competitor's motor; (2) the test data is kept confidential; and (3) Advanced Energy would not analyze and compare test data from various manufacturers. (GE, No. 10 at p. 1) Advanced Energy submitted a response to DOE regarding GE's comment. (Advanced Energy, No. 11.1 at p. 1) Advanced Energy stated that it requires all clients to review, sign and return appropriate documentation to ensure confidentiality. These documents include: (1) ISO-IEC 17065 Operations Manual; (2) Standard Operating Procedure; (3) Certification Scheme; (4) Mutual Non-Disclosure Agreement and Hold Harmless; and (5) Client Agreement and Terms of Service. Specifically, Advanced Energy cited section 4.5 of the ISO-IEC 17065 Operations Manual, which covers confidentiality. Advanced Energy provided copies of all five documents as part of their response to GE.² Advanced Energy added that it developed a mechanism for safeguarding impartiality as described in Section 5.2 of the ISO-IEC 17065 Operations Manual and explained that these specific procedures mitigate the risks mentioned by GE. (Advanced Energy, No. 11.1 at p.1)

² Copies of these documents were added to the docket (Advanced Energy, No. 11.2—No 11.6)

In reviewing the comment and response, DOE finds no specific cause to reject Advanced Energy's request for recognition as a nationally recognized certification program for electric motors and small electric motors. Therefore, the Department hereby announces its final determination pursuant to 10 CFR 431.21(d) and 10 CFR 431.448(d) that Advanced Energy is classified as a nationally recognized certification program for electric motors and small electric motors.

Signing Authority

This document of the Department of Energy was signed on June 26, 2020, by Alexander N. Fitzsimmons, Deputy Assistant Secretary for Energy Efficiency, Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 30, 2020.
Treena V. Garrett,
Federal Register Liaison Officer, U.S. Department of Energy.

[FR Doc. 2020-14400 Filed 7-2-20; 8:45 am]

BILLING CODE 6450-01-P